DEPARTMENT OF AGRICULTURE

Agricultural Marketing Service

[Docket No. FV-04-376]

Fruit and Vegetable Industry Advisory Committee

AGENCY: Agricultural Marketing Service, USDA.

ACTION: Notice of public meeting.

SUMMARY: The purpose of this notice is to notify all interested parties that the Agricultural Marketing Service (AMS) will hold a Fruit and Vegetable Industry Advisory Committee (Committee) meeting that is open to the public. The U.S. Department of Agriculture (USDA) established the Committee to examine the full spectrum of issues faced by the fruit and vegetable industry and to provide suggestions and ideas to the Secretary of Agriculture on how USDA can tailor its programs to meet the fruit and vegetable industry's needs. This notice sets forth the schedule and location for the meeting.

DATES: Thursday, February 19, 2004, from 8 a.m. to 5:30 p.m., and Friday, February 20, 2004, from 8 a.m. to 2 p.m.

ADDRESSES: The Committee meeting will be held at the Hilton Hotel Crystal City, 2399 Jefferson Davis Highway, Arlington, VA.

FOR FURTHER INFORMATION CONTACT: Sandra K. Gardei, Marketing Specialist, Fruit and Vegetable Programs, AMS, USDA, 1400 Independence Avenue, SW., Room 2071-S, Stop 0235, Washington DC 20250-0235. Telephone: (202) 720-3618. Facsimile: (202) 720-0016. E-mail: Sandra. gardei@usda.gov.

SUPPLEMENTARY INFORMATION: Pursuant to the Federal Advisory Committee Act (FACA) (5 U.S.C. App.), the Secretary of Agriculture established the Committee in August 2001 to examine the full spectrum of issued faced by the fruit and vegetable industry and to provide suggestions and ideas to the Secretary on how USDA can tailor its programs to meet the fruit and vegetable industry's needs. The committee was rechartered in August 2003 and new members were appointed from industry nominations.

AMS Deputy Administrator for Fruit and Vegetable Programs, Robert C. Keeney, serves as the Committee's Executive Secretary and Sandra Gardei as the Designated Federal Official. Representatives from USDA mission areas and other government agencies affecting the fruit and vegetable industry will be called upon to participate in the Committee's meetings as determined by the Committee Chairperson. AMS is giving notice of the committee meeting to the public so that they may wish to attend and present their recommendations. The meeting is scheduled for Thursday, February 19, 2004, from 8 a.m. to 5:30 p.m., and Friday, February 20, 2004, from 8 a.m. to 2 p.m., at the Hilton Hotel Crystal City, 2399 Jefferson Davis Highway, Arlington, VA.

Topics to be discussed at the meeting will include: USDA programs that encourage increased consumption of fruits and vegetables, grading and auditing programs offered by the Federal-State Inspection Service. AMS' microbiological data program, the organizational structure of the Perishable Agriculture Commodities Act Program, and methyl bromide issues.

Those parties that wish to speak at the meeting should register on or before February 13, 2004. To register as a speaker, please e-mail Sandra.gardei@usda.gov or facsimile to (202) 720-0016. Registrants should include their name, address, and daytime telephone number. Depending on the number of registered speakers, time limits may be imposed on speakers. Speakers who have registered in advance will be given priority.

If you require special accommodations, such as a sign language interpreter, please contact the person listed for FOR FURTHER INFORMATION CONTACT. The meeting will be recorded, and information about obtaining a transcript will be provided at the meeting.

The Secretary of Agriculture has selected a diverse group of members representing a broad spectrum of persons interested in providing suggestions and ideas on how USDA can tailor its programs to meet the fruit and vegetable industry's needs. Equal opportunity practices were considered in all appointments to the Committee in accordance with USDA policies.

Dated: January 14, 2004.
A.J. Yates,
Administrator, Agricultural Marketing Service.

[FR Doc. 04-1208 Filed 1-20-04; 8:45 am]

BILLING CODE 3410-02-M